FEDERAL COMMUNICATIONS COMMISSION

Notice of Public Information Collections Being Reviewed by the Federal Communications Commission for Extension Under Delegated Authority, Comments Requested

August 28, 2008.

SUMMARY: The Federal Communications Commission, as part of its continuing effort to reduce paperwork burdens, invites the general public and other Federal agencies to take this opportunity to comment on the following information collections, as required by the Paperwork Reduction Act of 1995 (PRA), Public Law No. 104-13. An agency may not conduct or sponsor a collection of information unless it displays a currently valid control number. No person shall be subject to any penalty for failing to comply with a collection of information subject to the PRA that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before November 7, 2008. If you anticipate that you will be submitting comments, but find it difficult to do so within the period of time allowed by this notice, you should advise the contact listed below as soon as possible.

ADDRESSES: Interested parties may submit all PRA comments by e-mail or U.S. post mail. To submit your comments by e-mail, send them to PRA@fcc.gov and/or Cathy.Williams@fcc.gov. To submit your comments by U.S. mail, mark them to the attention of: Cathy Williams, Federal Communications Commission, Room 1-C823, 445 12th Street, SW., Washington, DC 20554.

FOR FURTHER INFORMATION CONTACT: For additional information about the information collections, contact Cathy Williams at (202) 418-2918 or send an e-mail to PRA@fcc.gov and/or Cathy.Williams@fcc.gov.

SUPPLEMENTARY INFORMATION: OMB Control Number: 3060-1047.

Title: Telecommunications Relay Services and Speech-to-Speech Services for Individuals with Hearing and Speech Disabilities, CG Docket No. 03-123.

Form Number: N/A.

Type of Review: Extension of a currently approved collection.

Respondents: Business or other for-profit entities; Not-for-profit entities; State, local or tribal government.

Number of Respondents and Responses: 78 respondents; 209 responses.

Estimated Time per Response: 30 minutes (.50 hours) to 10 hours.

Frequency of Response: Recordkeeping requirement; Annual, on occasion, and one-time reporting requirements.

Total Annual Burden: 766 hours.

Total Annual Cost: None.

Obligation to Respond: Required to obtain or retain benefit. The statutory authority for this collection is contained in sections 1, 2, 4(i), 4(j), 225, 255 and 303(r) of the Communications Act of 1934, as amended, 47 U.S.C. 151, 152, 154(i), 154(j), 225, 255, 303(r).

Nature and Extent of Confidentiality: An assurance of confidentiality is not offered because this information collection does not require the collection of personally identifiable information from individuals.

Privacy Impact Assessment: No impact(s).

Needs and Uses: On December 12, 2005, the Commission released Telecommunications Relay Services and Speech-to-Speech Services for Individuals with Hearing and Speech Disabilities, CG Docket No. 03-123, Report and Order and Order on Reconsideration, 20 FCC Rcd 20577 (2005) (2005 TRS Report and Order), published at 70 FR 76208, December 23, 2005, which created another method for some Telecommunications Relay Service (TRS) providers to become eligible to receive compensation from the Interstate TRS Fund (Fund). Specifically, the 2005 TRS Report and Order amended the TRS regulations to permit a common carrier seeking to offer Video Relay Service (VRS) or Internet Protocol (IP) Relay Service and receive compensation from the Fund to apply to the Commission for certification as an entity providing these services in compliance with the TRS rules, and therefore eligible to receive reimbursement from the Fund. In a subsequent declaratory ruling, the Commission also permitted entities desiring to provide IP captioned telephone service to seek certification from the Commission for eligibility to receive compensation from the Fund. Telecommunications Relay Services and Speech-to-Speech Services for Individuals with Hearing and Speech Disabilities; Internet-based Captioned Telephone Service, CG Docket No. 03-123, Declaratory Ruling, 22 FCC Rcd 379 (2007), published at 72 FR 6960, February 14, 2007.

In order to facilitate this certification process, the Commission adopted information collection requirements that include the following:

(A) 47 CFR 64.606 (a)(2): Providing documentation detailing: (1) A description of the forms of TRS to be provided, (2) a description of how the provider will meet all non-waived mandatory minimum standards applicable to each form of TRS offered, (3) a description of the provider's procedures for ensuring compliance with all applicable TRS rules, (4) a description of the provider's complaint procedures, (5) a narrative describing any areas in which the provider's service will differ from the applicable mandatory minimum standards, (6) a narrative establishing that services that differ from the mandatory minimum standards do not violate applicable mandatory minimum standards, (7) demonstration of status as a common carrier, and (8) a statement that the provider will file annual compliance reports demonstrating continued compliance with the rules;

(B) 47 CFR 64.606 (c)(2): A provider may apply for renewal of its certification by filing documentation with the Commission, at least 90 days prior to expiration of certification, containing the information described in 47 CFR 64.606 (a)(2);

(C) 47 CFR 64.606 (e)(2): A provider must submit documentation demonstrating ongoing compliance with the Commission's minimum standards if, for example, the Commission receives evidence that a certified provider may not be in compliance with the minimum standards and the Commission requests such information;

(D) 47 CFR 64.606 (f)(2): Providers certified under this section must notify the Commission of substantive changes in their TRS programs, services, and features within 60 days of when such changes occur, and must certify that the interstate TRS provider continues to meet federal minimum standards after implementing the substantive change; and

(E) 47 CFR 64.606 (g): Providers certified under this section shall file with the Commission, on an annual basis, a report providing evidence that they are in compliance with 47 CFR 64.604.

In Telecommunication Relay Services and Speech-to-Speech Services for Individuals with Hearing and Speech Disabilities; Americans with Disabilities Act of 1990, CG Docket No. 03-123, CC Docket No. 98-67, Second Report and Order, Order on Reconsideration, and Notice of Proposed Rulemaking, 18 FCC Rcd 12379 (2003), published at 68 FR 50993, August 25, 2003, the Commission adopted additional requirements related to the substance and implementation of TRS mandatory minimum standards. In 47 CFR 64.604(a)(3), the Commission required TRS facilities to provide speed dialing functionality, which may entail providers maintaining a list of telephone numbers. In addition, the Commission bolstered the contact information requirements of 47 CFR 64.604(c)(2).

Furthermore, the Commission required providers receiving waivers of some of these standards to submit to the Commission an annual waiver report that details (1) the technological changes with respect to the functionalities covered by the waivers; (2) the progress made; and (3) the steps taken to resolve the technological problems that prevent these providers from offering certain types of TRS calls and features.

Federal Communications Commission.
Marlene H. Dortch,
Secretary.

[FR Doc. E8-20741 Filed 9-5-08; 8:45 am]

BILLING CODE 6712-01-P